DEPARTMENT OF COMMERCE

Census Bureau

Boundary and Annexation Survey (BAS)

ACTION: Proposed collection; comment request.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A)).

DATES: Written comments must be submitted on or before August 27, 2001.

ADDRESSES: Direct all written comments to Madeleine Clayton, Departmental Paperwork Clearance Officer, Department of Commerce, Room 6086, 14th and Constitution Avenue, NW, Washington, DC 20230 (or via e-mail to: mclayton@doc.gov).

FOR FURTHER INFORMATION CONTACT: Requests for additional information or copies of the information collection instrument(s) and instructions should be directed to Nancy Goodman, Geography Division, U.S. Census Bureau, Washington, DC 20233-7400, or call (301) 457-1099.

SUPPLEMENTARY INFORMATION:

I. Abstract

The Census Bureau conducts the Boundary and Annexation Survey (BAS) to collect and maintain information about the inventory of, the legal boundaries for, and the legal actions affecting the boundaries of counties and equivalent entities, incorporated places, minor civil divisions, and federally recognized legal American Indian and Alaska Native areas. In addition, the BAS provides an opportunity for each jurisdiction to inform the Census Bureau about changes to the road and other map information within its territory, and requests information about the extent of addresses at the intersection of each road with its governmental boundary. This information provides an accurate identification of geographic areas for the Census Bureau to use in conducting the decennial and economic censuses, the population estimates, household survey, and other statistical programs of the Census Bureau, and the legislative programs of the federal government.

Through the BAS, the Census Bureau asks each government to review the forms and maps for its jurisdiction to verify the correctness of the information portrayed. Each government is asked to update the maps to reflect current boundaries, supply information documenting each legal boundary change, provide changes in the inventory of governments, and add or change related map information, such as street network, street name, address break, and so forth, as applicable.

The BAS universe and mailing materials vary depending upon the needs of the Census Bureau in fulfilling its censuses and household surveys. Federally recognized American Indian reservations, off-reservation trust lands, and tribal subdivisions, are included in every survey. The Census Bureau also is considering including federally recognized American Indian off-reservation allotments as part of future surveys.

In the years ending in 8, 9, and 0, the BAS includes all governmental counties and equivalent entities, incorporated places, all governmental minor civil divisions, and federally recognized American Indian and Alaska Native areas (including the Alaska Native Regional Corporations). Each governmental entity surveyed will receive a full set of maps covering its jurisdiction and one or more forms. These three years coincide with the Census Bureau's preparation for the decennial census.

In the years ending with 2 and 7, the BAS includes all federally recognized American Indian and Alaska Native areas, all governmental counties and equivalent entities, minor civil divisions in the six New England states and those with a population of 10,000 or greater in the states of Michigan, Minnesota, New Jersey, New York, Pennsylvania and Wisconsin, and those incorporated places that have a population of 2,500 or greater in all states.

The remaining years of the decade—years ending in 1, 3, 4, 5, and 6—the BAS includes all federally recognized American Indian and Alaska Native areas, all governmental counties and equivalent entities, minor civil divisions in the six New England states, and incorporated places that have a population of 5,000 or greater in all states.

In the years ending from 1 through 7 the Census Bureau may enter into agreements with individual states to modify the universe of minor civil divisions and/or incorporated places to include additional entities that are known by that state to have had boundary changes, without regard to population size. In addition, the Census Bureau will include in the BAS each newly incorporated place in the year following notification of its incorporation or any boundary change reported as part of the Count Question Resolution process. The BAS also will include each year a single respondent request for municipio, barrio, barrio-pueblo, and subbarrio boundary and status information in Puerto Rico and Hawaiian home land boundary and status information in Hawaii.

To ensure the correct allocation of population and housing units for each household survey, the population estimates program, the 2002 and 2007 Economic Censuses, and the 2010 Census, the Census Bureau will request information depicting the relationship of addresses to each legal boundary. The BAS asks each government to review and/or update information about the addresses that exist at their legal boundaries, where their boundaries intersect streets. This information assists the Census Bureau in correctly tabulating the data for each governmental unit.

No other federal agency collects these data nor is there a standard collection of this information at the state level. The Census Bureau's BAS is a unique survey providing a standard result for use by federal, state, local, and tribal governments and by commercial, private, and public organizations.

II. Method of Collection

During the next three years, the Census Bureau will be developing an electronic response option. This option will involve updating both the forms and maps electronically and the use of electronic signatures; the Census Bureau is working with the State of Georgia in a pilot program to develop this methodology. The Census Bureau will provide digital files to the State of Georgia after processing the 2001 BAS responses.

A BAS package that includes the following items is mailed to each respondent:

1. An introductory letter from the Director of the Census Bureau.

2. The appropriate BAS Survey Form(s) preprinted with entity-specific identification information:

BAS-1 and BAS-1A—Incorporated Places

BAS-CUO City BAS 2, BAS-2A, and BAS-CUO—Counties, Parishes, Boroughs, City and Boroughs, Census Areas

BAS-3 and BAS-3A—Minor Civil Divisions

BAS-4—Newly Incorporated Places or Newly Activated Places

BAS-5 and BAS-5A—American Indian and Alaska Native Areas

3. A BAS Guide for Annotating the Maps.

4. Special inserts, if applicable, for the entity.

5. A set of maps showing the current boundaries of the entity.

6. A return envelope.

An official in each government is asked to verify the legal boundaries and update the maps, showing any street feature, revised/new address breaks, and/or legal boundary changes. The official is then asked to sign the maps and verify the forms and return the information to the Census Bureau.

The Census Bureau inserts the boundary, address break, and feature changes into the TIGER system—the Census Bureau's geographic data base and associated data files.

III. Data

OMB Number: 0607-0151.

Form Numbers: BAS-1, BAS-1A, BAS-2, BAS-2A, BAS-CUO, BAS-3, BAS-3A, BAS-4, BAS-5, and BAS-5A. (A final list of inserts and letters will be included in the package submitted to the OMB for approval.)

Type of Review: Regular Submission.

Affected Public: State, Local and Tribal Governments.

Estimated Number of Respondents:

2002 BAS—13,662 respondents per year 2003 and 2004

BAS—10,631 respondents per year

Estimated Time Per Response: 3 hours.

Estimated Total Annual Burden Hours:

2002 BAS—40,986 burden hours

2003 and 2004 BAS—28,257 burden hours

Estimated Total Annual Cost: The estimated total annual cost is $6,996,310 for 2002 and $4,823,469 for 2003 and 2004. The Census Bureau based its estimate on the information from the Annual Survey of State and Local Government Employment. Using employment and payroll in the category “financial administration,” the main cost is for review and completion by local government employees whose pay averages $17.07 per hour.

Respondent's Obligation: Voluntary.

Legal Authority: Title 13, U.S.C. Section 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including the use of automated collection techniques or other forms of information technology.

Comments submitted in response to this notice will be summarized and/or included in the request for OMB approval of this information collection; they also will become a matter of public record.

Dated: June 21, 2001.
Madeleine Clayton,
Departmental Paperwork Clearance Officer, Office of the Chief Information Officer.

[FR Doc. 01-15988 Filed 6-25-01; 8:45 am]

BILLING CODE 3510-07-P